DEPARTMENT OF AGRICULTURE

Forest Service

Giant Sequoia National Monument Scientific Advisory Board

AGENCY: Forest Service, USDA.

ACTION: Notice of meeting.

SUMMARY: The Giant Sequoia National Monument Scientific Advisory Board (Scientific Advisory Board) will meet in Sequoia National Park, California, September 5 and 6, 2001. The purpose of the meeting is to hear comments from the public; affirm advisories drafted at the July meeting; review issues from the Giant Sequoia National Monument planning team; and initiate discussions for developing Advisories on issues.

DATES: The meeting will be held September 5 and 6, from 8 a.m. to 5 p.m. One half-day of the meeting is reserved for a field visit to parts of Sequoia National Park and Giant Sequoia National Monument.

ADDRESSES: The meeting will be held at Wuksachi Lodge, 64720 Wuksachi Way, Sequoia National Park, California.

FOR FURTHER INFORMATION CONTACT: To receive further information, contact Arthur L. Gaffrey, 559-784-1500.

SUPPLEMENTARY INFORMATION: The meeting is open to the public. If you are planning to attend either day, please contact Arthur L. Gaffrey to ensure adequate seating. Guidelines for the public participation portion of the Scientific Advisory Board's meeting are as follows: The public will be allowed to address the Scientific Advisory Board during the first 30 minutes of the meeting on September 5; when registering participants must provide a written copy of their presentation for inclusion in the meeting minutes; oral presentations may be no more than 5 minutes in length, depending on the number of people wishing to address the Scientific Advisory Board, priority for presentations will be given to persons who did not make a presentation at the July meeting; and all presentations must be related to the science surrounding the development of the Management Plan for the Giant Sequoia National Monument. Some members of the Scientific Advisory Board may participate in the meeting via telephone. In that event, arrangements will be made to enable the public to listen to all the members participating in the meeting.

A field visit to parts of the Sequoia National Park and Giant Sequoia National Monument is planned for part of the meeting. The field visit is also open to the public. Anyone wishing to attend the field visit must provide his or her own transportation. Carpooling is encouraged. Written comments for the Scientific Advisory Board may be submitted to Forest Supervisor Arthur L. Gaffrey, Sequoia National Forest, 900 West Grand Avenue, Porterville, California 93257.

A final agenda can be obtained by contacting Arthur L. Gaffrey or by visiting the Giant Sequoia National Monument web site at www.r5.fs.fed.us/giant_sequoia.

Dated: August 8, 2001.
Arthur L. Gaffrey,
Forest Supervisor, Sequoia National Forest.

[FR Doc. 01-20752 Filed 8-16-01; 8:45 am]

BILLING CODE 3410-11-M